DEPARTMENT OF HEALTH AND HUMAN SERVICES

Food and Drug Administration

[Docket Nos. FDA-2014-N-1031, FDA-2013-N-0878, FDA-2014-N-0998, FDA-2014-N-1076, FDA-2013-N-0520, FDA-2017-N-6397, FDA-2014-N-1030, and FDA-2020-N-1228]

Agency Information Collection Activities; Announcement of Office of Management and Budget Approvals

AGENCY: Food and Drug Administration, Health and Human Services (HHS).

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at http://www.reginfo.gov/public/do/PRAMain. An Agency may not conduct or sponsor, and a person is not required to respond to, a collection of information unless it displays a currently valid OMB control number.

Table 1—List of Information Collections Approved by OMB
Title of collection | OMB control number | Date approval expires
FDA recall regulations | 0910-0249 | 5/31/2024
Premarket Notification for a New Dietary Ingredient | 0910-0330 | 5/31/2024
Regulations for In Vivo Radiopharmaceuticals Used for Diagnosis and Monitoring | 0910-0409 | 5/31/2024
Formal Dispute Resolution; Scientific and Technical Issues Related to Pharmaceutical Current Good Manufacturing Practice | 0910-0563 | 5/31/2024
Substances Prohibited From Use in Animal Food or Feed | 0910-0627 | 5/31/2024
Food Labeling; Calorie Labeling of Articles of Food in Vending Machines and Nutrition Labeling of Standard Menu Items in Restaurants and Similar Retail Food Establishments | 0910-0782 | 5/31/2024
Food Allergen Labeling and Reporting | 0910-0792 | 5/31/2024
Study of Multiple Indications in Direct-to-Consumer Television Advertisements | 0910-0897 | 5/31/2024

Dated: June 4, 2021.
Lauren K. Roth,
Acting Principal Associate Commissioner for Policy.

[FR Doc. 2021-12156 Filed 6-9-21; 8:45 am]

BILLING CODE 4164-01-P